DEPARTMENT OF LABOR

Employment and Training Administration

[TA-W-64,397]

ITT Marine & Leisure, Gloucester, MA, Notice of Termination of Investigation

Pursuant to Section 221 of the Trade Act of 1974, as amended, an investigation was initiated on November 12, 2008 in response to a worker petition filed by the Massachusetts Division of Employment and Training Services on behalf of workers at ITT Marine & Leisure, Gloucester, Massachusetts.

The petitioner has requested that the petition be withdrawn. Consequently, the investigation has been terminated.

Signed at Washington, DC, this 23rd day of December 2008.
Richard Church,
Certifying Officer, Division of Trade Adjustment Assistance.

[FR Doc. E8-31332 Filed 1-2-09; 8:45 am]

BILLING CODE 4510-FN-P